DEPARTMENT OF HEALTH AND HUMAN SERVICES

National Institute for Occupational Safety and Health; Determination Concerning a Petition to Add a Class of Employees to the Special Exposure Cohort

AGENCY: National Institute for Occupational Safety and Health (NIOSH), Department of Health and Human Services (HHS).

ACTION: Notice.

SUMMARY: The Department of Health and Human Services (HHS) gives notice of a determination concerning a petition to add a class of employees at the Sandia National Laboratory—Livermore, Livermore, California, to the Special Exposure Cohort (SEC) under the Energy Employees Occupational Illness Compensation Program Act of 2000 (EEOICPA), 42 U.S.C. 7384q. On July 29, 2008, the Secretary of HHS determined that the following employees do not meet the statutory criteria for addition to the SEC as authorized under EEOICPA:

Department of Energy employees or its contractor or subcontractor employees who worked as x-ray technologists and materials scientists at Sandia National Laboratory—Livermore in the X-ray Diffraction and Fluorescence Laboratory, Building 913—Room 113 and Building 913—Room 128 from December 1, 1967 through December 31, 1990.

FOR FURTHER INFORMATION CONTACT: Larry Elliott, Director, Office of Compensation Analysis and Support, National Institute for Occupational Safety and Health (NIOSH), 4676 Columbia Parkway, MS C-46, Cincinnati, OH 45226, Telephone 1-800-CDC-INFO (1-800-232-4636) or directly at 1-513-533-6800 (this is not a toll-free number). Information requests can also be submitted by e-mail to OCAS@CDC.GOV.

Dated: August 5, 2008.
Christine M. Branche,
Acting Director, National Institute for Occupational Safety and Health.

[FR Doc. E8-19732 Filed 8-25-08; 8:45 am]

BILLING CODE 4160-17-P